DEPARTMENT OF COMMERCE

National Oceanic and Atmospheric Administration

RIN 0648-XF995

Initiation of 5-Year Review for the Endangered New York Bight, Chesapeake Bay, Carolina and South Atlantic Distinct Population Segments of Atlantic Sturgeon and the Threatened Gulf of Maine Distinct Population Segment of Atlantic Sturgeon; Correction

AGENCY: National Marine Fisheries Service (NMFS), National Oceanic and Atmospheric Administration (NOAA), Commerce.

ACTION: Notice of initiation of 5-year review and request for information; correction.

SUMMARY: We, NMFS, published a notice in the Federal Register of March 16, 2018, announcing our intent to conduct a 5-year review for the threatened Gulf of Maine distinct population segment (DPS) of Atlantic sturgeon (Acipenser oxyrinchus oxyrinchus), the endangered New York Bight DPS of Atlantic sturgeon, the endangered Chesapeake Bay DPS of Atlantic sturgeon, the endangered Carolina DPS of Atlantic sturgeon and the endangered South Atlantic DPS of Atlantic sturgeon under the Endangered Species Act of 1973, as amended (ESA). The notice contained an incorrect link to the Federal e-Rulemaking Portal for submitting comments. This document corrects the link.

ADDRESSES: Submit your comments by including NOAA-NMFS-2018-0041, by either of the following methods:

• Electronic Submissions: Submit all electronic public comments via the Federal e-Rulemaking Portal.

1. Go to https://www.regulations.gov/#!docketDetail;D=NOAA-NMFS-2018-0041.

2. Click the “Comment Now!” icon, complete the required fields.

3. Enter or attach your comments.

• Mail: Submit written comments to Lynn Lankshear, NMFS, Greater Atlantic Region Fisheries Office, 55 Great Republic Drive, Gloucester, MA 01930 or Andrew Herndon, NMFS, Southeast Regional Office, 263 13th Avenue South, Saint Petersburg, FL 33701.

Instructions: We may not consider comments if they are sent by any other method, to any other address or individual, or received after the end of the specified period. All comments received are a part of the public record and will generally be posted for public viewing on www.regulations.gov without change. All personal identifying information (e.g., name, address, etc.), confidential business information, or otherwise sensitive information submitted voluntarily by the sender will be publicly accessible. We will accept anonymous comments (enter “N/A” in the required fields if you wish to remain anonymous).

FOR FURTHER INFORMATION CONTACT: Lynn Lankshear at the above address, by phone at 978-282-8473 or Lynn.Lankshear@noaa.gov or Andrew Herndon at the above address, by phone at 727-824-5312 or Andrew.Herndon@noaa.gov.

SUPPLEMENTARY INFORMATION:

Need for Correction

In the Federal Register of March 16, 2018, in FR Doc. 2018-05306, on page 11731, in the third column, the ADDRESSES section contained an incorrect link to the Federal e-Rulemaking Portal and is corrected in this document.

Authority: 16 U.S.C. 1531 et seq.

Dated: March 21, 2018.
Angela Somma,
Chief, Endangered Species Division, Office of Protected Resources, National Marine Fisheries Service.

[FR Doc. 2018-06057 Filed 3-23-18; 8:45 am]

BILLING CODE 3510-22-P